NUCLEAR REGULATORY COMMISSION

[NRC-2014-0271]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 27, 2014 to December 10, 2014. The last biweekly notice was published on December 9, 2014.

DATES: Comments must be filed by January 22, 2015. A request for a hearing must be filed by February 23, 2015.

ADDRESSES: You may submit comments by any of the following methods (unless this document describes a different method for submitting comments on a specific subject):

• Federal Rulemaking Web site: Go to http://www.regulations.gov and search for Docket ID NRC-2014-0271. Address questions about NRC dockets to Carol Gallagher; telephone: 301-287-3422; email: Carol.Gallagher@nrc.gov.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.Rohrer@nrc.gov.

SUPPLEMENTARY INFORMATION:

I. Obtaining Information and Submitting Comments

A. Obtaining Information

Please refer to Docket ID NRC-2014-0271 when contacting the NRC about the availability of information for this action. You may obtain publicly-available information related to this action by any of the following methods:

• Federal Rulemaking Web site: Go to http://www.regulations.gov and search for Docket ID NRC-2014-0271.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0271 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave to Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., Docket No. 50-336, Millstone Power Station, Unit 2, New London County, Connecticut

Date of amendment request: June 30, 2014. A publicly-available version is in ADAMS under Accession No. ML14188B189.

Description of amendment request: The amendment would revise Technical Specifications (TSs) requirements to adopt the changes described in the NRC's approved Technical Specifications Task Force (TSTF) Standard Technical Specifications Change Traveler TSTF-426, Revision 5, “Revise or Add Actions to Preclude Entry into LCO 3.0.3-TSTF Initiatives 6b and 6c.”

Basis for proposed no significant hazards consideration determination: As required by 10 CFR 50.91(a), the licensee has provided its analysis of the issue of no significant hazards consideration, which is presented below:

1. Does the proposed change involve a significant increase in the probability or consequences of an accident previously evaluated?

Response: No.

The proposed change provides a short Allowed Outage Time to restore an inoperable system for conditions under which the existing Technical Specifications require a plant shutdown to begin within one hour in accordance with LCO 3.0.3. Entering into Technical Specification Actions is not an initiator of any accident previously evaluated. As a result, the probability of an accident previously evaluated is not significantly increased. The consequences of any previously evaluated accident that may occur during the proposed Allowed Outage Times are no different than the consequences of the same accident during the existing one hour allowance. As a result, the consequences of any accident previously evaluated are not significantly increased.

Therefore, the proposed change does not involve a significant increase in the probability or consequences of an accident previously evaluated.

2. Does the proposed change create the possibility of a new or different kind of accident from any accident previously evaluated?

Response: No.

No new or different accidents result from the proposed change. The changes do not involve a physical alteration of the plant (i.e., no new or different type of equipment will be installed) or a change in the methods governing normal plant operation. In addition, the changes do not impose any new or different requirements. The proposed changes do not alter assumptions made in the safety analysis.

Therefore, the proposed change does not create the possibility of a new or different kind of accident from any previously evaluated.

3. Does the proposed change involve a significant reduction in a margin of safety?

Response: No.

The proposed change increases the allowed outage time MPS2 may continue to operate without the operability of any one of the five identified systems proposed in this change for up to 24 hours. The analyses in WCAP-16125-NP-A, “Justification for Risk-Informed Modifications to Selected Technical Specifications for Conditions Leading to Exigent Plant Shutdown,” Revision 2, August 2010, demonstrated that this limited increase in AOT results in an acceptably small increase in risk due to a limited period of continued operation in these conditions and that the associated risk is balanced by avoiding the similar risks associated with a plant shutdown. As a result, the change to the margin of safety proposed by modifying a plant shutdown within one hour is not significant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Benjamin G. Beasley.

Dominion Nuclear Connecticut, Inc., Docket No. 50-423, Millstone Power Station, Unit 3, New London County, Connecticut

Date of amendment request: May 8, 2014, as supplemented by letters dated August 14, October 15, and October 16, 2014. Publicly-available versions are in ADAMS under Accession Nos. ML14133A009, ML14234A097, ML14294A452, and ML14294A451.

Description of amendment request: The amendment would revise Technical Specification (TS) 3.3.1, “Reactor Trip System (RTS) Instrumentation” and TS 3.3.2, “Engineered Safety Feature Actuation System (ESFAS) Instrumentation,” to adopt Completion Time (CT) and test bypass time changes. These changes have been approved by the NRC in Topical Reports WCAP-14333-P-A, “Probabilistic Risk Analysis of the RPS and ESFAS Test Times and Completion Times,” Revision 1, dated October 1998, and WCAP-1 5376-P-A, “Risk-informed Assessment of the RTS and ESFAS Surveillance Test Intervals and Reactor Trip Breaker Test and Completion Times,” Revision 1, dated March 2003.

As discussed in the supplement dated August 14, 2014, the licensee subsequently deleted certain changes requested in the May 8, 2014 application. Those changes were deleted because they were found by the NRC staff to be unsupported by the scope of the provisions approved by WCAP-14333-P-A, Revision 1.

Basis for proposed no significant hazards consideration determination: As required by 10 CFR 50.91(a), the licensee has provided its analysis of the issue of no significant hazards consideration, which is presented below:

1. Do the proposed changes involve a significant increase in the probability or consequences of an accident previously evaluated.

Response: No.

Overall protection system performance will remain within the bounds of the previously performed accident analyses since no hardware changes are proposed. The same RTS [Reactor Trip System] and ESFAS [Engineered Safety Feature Actuation System] instrumentation will continue to be used. The protection systems will continue to function in a manner consistent with the plant design basis. These changes to the TS do not result in a condition where the design, material, and construction standards that were applicable prior to the change are altered.

The proposed changes will not modify any system interface. The proposed changes will not affect the probability of any event initiators. There will be no degradation in the performance of or an increase in the number of challenges imposed on safety-related equipment assumed to function during an accident situation. There will be no change to normal plant operating parameters or accident mitigation performance. The proposed changes will not alter any assumptions or change any mitigation actions in the radiological consequence evaluations in the Final Safety Analysis Report (FSAR).

The determination that the results of the proposed changes are acceptable was established in the NRC Safety Evaluations prepared for WCAP-14333-P-A, (issued by letter dated July 15, 1998) and for WCAP-1 5376-P-A, (issued by letter dated December 20, 2002). Implementation of the proposed changes will result in an insignificant risk impact. Applicability of these conclusions has been verified through plant-specific reviews and implementation of the generic analysis results in accordance with the respective NRC Safety Evaluation conditions.

The proposed changes to the CTs, and test bypass times reduce the potential for inadvertent reactor trips and spurious engineered safeguard features actuations, and therefore do not increase the probability of any accident previously evaluated. The proposed changes do not change the response of the plant to any accidents and have an insignificant impact on the reliability of the RTS and ESFAS signals. The RTS and ESFAS will remain highly reliable and the proposed changes will not result in a significant increase in the risk of plant operation. This is demonstrated by showing that the impact on plant safety, as measured by the increase in core damage frequency (CDF) is less than 1.OE-06 per year and the increase in large early release frequency (LERF) is less than 1.OE-07 per year. In addition, for the CT changes, the incremental conditional core damage probabilities (ICCDP) and incremental conditional large early release probabilities (ICLERP) are less than 5.OE-07 and 5.OE-08, respectively. These changes meet the acceptance criteria in Regulatory Guides (RGs) 1.174 and 1.177.

Therefore, since the RTS and ESFAS will continue to perform their functions with high reliability, as originally assumed, and the increase in risk, as measured by CDF, LERF, ICCDP, ICLERP risk metrics, is within the acceptance criteria of existing regulatory guidance, there will not be a significant increase in the consequences of any accidents.

The proposed changes do not adversely affect accident initiators or precursors nor alter the design assumptions, conditions, or configuration of the facility or the manner in which the plant is operated and maintained. The proposed changes do not alter or prevent the ability of structures, systems, and components from performing their intended function to mitigate the consequences of an initiating event within the assumed acceptance limits. The proposed changes do not affect the source term, containment isolation, or radiological release assumptions used in evaluating the radiological consequences of any accident previously evaluated. The proposed changes are consistent with safety analysis assumptions and resultant consequences.

Therefore, this change does not significantly increase the probability or consequences of any accident previously evaluated.

2. Do proposed changes create the possibility of a new or different kind of accident from any accident previously evaluated?

Response: No.

There are no hardware changes nor are there any changes in the method by which any safety-related plant system performs its safety function. The proposed changes will not affect the normal method of plant operation. No performance requirements will be affected or eliminated. The proposed changes will not result in physical alteration to any plant system nor there any change in the method by which any safety-related plant system performs its safety function. There will be no setpoint changes or changes to accident analysis assumptions.

No new accident scenarios, transient precursors, failure mechanisms, or limiting single failures are introduced as a result of these changes. There will be no adverse effect or challenges imposed on any safety-related system as a result of these changes.

Therefore, the proposed changes do not create the possibility of a new or different kind of accident from any previously evaluated.

3. Do the proposed changes involve a significant reduction in a margin of safety?

Response: No.

The proposed changes do not affect the acceptance criteria for any analyzed event nor is there a change to any Safety Analysis Limit. There will be no effect on the manner in which safety limits, limiting safety system settings, or limiting conditions for operation are determined nor will there be any effect on those plant systems necessary to assure the accomplishment of protection functions. There will be no impact on the departure from nucleate boiling limits, fuel centerline temperature, or any other margin of safety. The radiological dose consequence acceptance criteria listed in the NUREG-0800, “Standard Review Plan for the Review of Safety Analysis Reports for Nuclear Power Plants,” will continue to be met.

Redundant RTS and ESFAS trains are maintained, and diversity with regard of the signals that provide reactor trip and engineered safety features actuation is also maintained. All signals credited as primary or secondary, and all operator actions credited in the accident analyses will remain the same. The proposed changes will not result in plant operation in a configuration outside the design basis. The calculated impact on risk is insignificant and meets the acceptance criteria contained in RGs 1.174 and 1.177.

Implementation of the proposed changes is expected to result in an overall improvement in safety, as follows:

• Improvements in the effectiveness of the operating staff in monitoring and controlling plant operation will be realized. This is due to less frequent distraction of the operators and shift supervisor to attend to instrumentation Required Actions with short CTs.

• Longer repair times associated with increased CTs will lead to higher quality repairs and improved reliability.

• The CT extensions for the reactor trip breakers will provide additional time to complete test and maintenance activities while at power, potentially reducing the number of forced outages related to compliance with reactor trip breaker CT, and provide consistency with the CT for the logic trains.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Benjamin G. Beasley.

DTE Electric Company, Docket No. 50-341, Fermi 2, Monroe County, Michigan

Date of amendment request: October 21, 2014. A publicly-available version is in ADAMS under Accession No. ML14295A078.

Description of amendment request: The proposed amendment would replace the current emergency action level scheme with the scheme described in Nuclear Energy Institute (NEI) 99-01, Revision 6, “Development of Emergency Action Levels for Non-Passive Reactors” (ADAMS Accession No. ML110240324).

Basis for proposed no significant hazards consideration determination: As required by 10 CFR 50.91(a), the licensee has provided its analysis of the issue of no significant hazards consideration, which is presented below:

1. Do the proposed changes involve a significant increase in the probability or consequences of any accident previously evaluated?

Response: No.

The proposed changes to DTE's EAL [emergency action level] scheme to adopt the NRC-endorsed guidance in NEI 99-01, Revision 6, “Development of Emergency Action Levels for Non-Passive Reactors,” do not reduce the capability to meet the emergency planning requirements established in 10 CFR 50.47 and 10 CFR 50, Appendix E. The proposed changes do not reduce the functionality, performance, or capability of DTE's ERO [Emergency Response Organization] to respond in mitigating the consequences of any design basis accident.

The proposed changes do not alter the requirements of the Operating License or the Technical Specifications. The proposed changes do not modify any plant equipment and do not impact any failure modes that could lead to an accident. The proposed changes do not impact the consequence of an analyzed accident since the changes do not affect equipment related to accident mitigation. The proposed changes do not involve any physical changes to plant equipment or systems, nor do they alter the assumptions of any accident analyses. The proposed changes do not adversely affect accident initiators or precursors nor do they alter the design assumptions, conditions, and configuration or the manner in which the plant is operated and maintained. The proposed changes do not adversely affect the ability of Structures, Systems, or Components (SSCs) to perform their intended safety functions in mitigating the consequences of an initiating event.

Therefore, the proposed changes do not involve a significant increase in the probability or consequences of an accident previously evaluated.

2. Do the proposed changes create the possibility of a new or different kind of accident from any previously evaluated?

Response: No.

The proposed EAL changes to adopt the NRC-endorsed guidance in NEI 99-01, Revision 6, do not involve any physical changes to plant systems or equipment. The proposed changes do not involve the addition of any new plant equipment. The proposed changes will not alter the design configuration, or method of operation of plant equipment beyond its normal functional capabilities. All DTE ERO functions will continue to be performed as required. The proposed changes do not create any new credible failure mechanisms, malfunctions, or accident initiators.

Therefore, the proposed changes do not create the possibility of a new or different kind of accident from those that have been previously evaluated.

3. Do the proposed changes involve a significant reduction in the margin of safety?

Response: No.

The proposed EAL changes to adopt the NRC-endorsed guidance in NEI 99-01, Revision 6, do not alter or exceed a design basis or safety limit. There is no change being made to safety analysis assumptions, safety limits, or limiting safety system settings that would adversely affect plant safety as a result of the proposed changes. There are no changes to setpoints or environmental conditions of any SSC or the manner in which any SSC is operated. Margins of safety are unaffected by the proposed changes to adopt the NEI 99-01, Revision 6 EAL scheme guidance. The applicable requirements of 10 CFR 50.47 and 10 CFR 50, Appendix E will continue to be met.

Therefore, the proposed changes do not involve any reduction in a margin of safety.

The NRC staff has reviewed the licensee's analysis and, based on this review, it appears that the three standards of 10 CFR 50.92(c) are satisfied. Therefore, the NRC staff proposes to determine that the amendment request involves no significant hazards consideration.

Attorney for licensee: Bruce R. Maters, DTE Energy, General Counsel—Regulatory, 688 WCB, One Energy Plaza, Detroit, MI 48226-1279.

NRC Branch Chief: David L. Pelton.

Exelon Generation Company, LLC, Docket Nos. 50-352 and 50-353, Limerick Generating Station (LGS), Units 1 and 2, Montgomery County, Pennsylvania

Date of amendment request: November 3, 2014. A publicly-available version is in ADAMS under Accession No. ML14308A144.

Description of amendment request: The proposed amendment would add new Limiting Conditions for Operation (LCOs) 3.0.5 and 3.0.6 to the Applicability section of the Technical Specifications (TSs). The LCO 3.0.5 would establish an allowance for restoring equipment to service, under administrative controls, when the equipment has been removed from service or declared inoperable to comply with TS Action requirements. The LCO 3.0.6 would provide actions to be taken when the inoperability of a support system results in the inoperability of the related supported systems. In addition, the proposed amendment would add the Safety Function Determination Program to the Administrative Controls section of the TSs. This program is intended to ensure that a loss of safety function is detected and appropriate actions are taken when LCO 3.0.6 is entered.

Basis for proposed no significant hazards consideration determination: As required by 10 CFR 50.91(a), the licensee has provided its analysis of the issue of no significant hazards consideration, which is presented below:

1. Do the proposed changes involve a significant increase in the probability or consequences of an accident previously evaluated?

Response: No.

The proposed changes involve the addition of a new Limiting Condition for Operation (LCO) 3.0.5 to the Applicability Section of the Limerick Generating Station (LGS) Technical Specifications (TS) which allows restoration of equipment to service under administrative controls when it has been removed from service or declared inoperable to comply with TS Action requirements. The potential impact of temporarily returning the equipment to service is considered to be insignificant since the equipment has been restored to a condition which is expected to provide the required safety function.

Returning the equipment to service for operability testing will promote timely restoration of the equipment and reduce the probability of events that may have been prevented or mitigated by such operable equipment. Since the equipment to be restored is already out of service, the availability of the equipment has been previously considered in the evaluation of consequences of an accident. Temporarily returning the equipment to service in a state which is expected to function as required to mitigate the consequences of a previously analyzed accident will promote timely restoration of the equipment and restore the capabilities of the equipment to mitigate the consequences of any events previously analyzed.

Additionally, the proposed changes involve the addition of a new LCO 3.0.6 to the Applicability Section of the LGS TS that provides appropriate actions to be taken when the inoperability of a support system results in the inoperability of related supported systems. Furthermore, the proposed changes involve adding new Safety Function Determination Program (SFDP) requirements to the Administrative Section of the LGS TS to ensure that a loss of safety function is detected and appropriate actions are taken when LCO 3.0.6 is entered.

The proposed changes do not alter the physical design of any plant structure, system, or component; therefore, the proposed changes have no adverse effect on plant operation, or the availability or operation of any accident mitigation equipment. The plant response to the design basis accidents does not change.

Also, the proposed changes conform to NRC regulatory requirements regarding the content of plant TS as identified in 10 CFR 50.36, and also the guidance as approved by the NRC in NUREG-1433, “Standard Technical Specifications-General Electric BWR [boiling-water reactor]/4 Plants.”

Therefore, the proposed changes do not involve a significant increase in the probability or consequences of an accident previously evaluated.

2. Do the proposed changes create the possibility of a new or different kind of accident from any accident previously evaluated?

Response: No.

The proposed changes include the addition of a new LCO 3.0.5 to the Applicability Section of the LGS TS which allows restoration of equipment to service under administrative controls when it has been removed from service or declared inoperable to comply with TS Action requirements. Operation with the inoperable equipment temporarily restored to service is not considered a new mode of operation since existing procedures and administrative controls prevent the restoration of equipment to service until it is considered capable of providing the required safety function.

Performance of the operability testing is considered to be a confirmatory check of that capability which demonstrates that the equipment is indeed operable. For those times when equipment which may be temporarily returned to service under administrative controls is subsequently determined to be inoperable, the resulting condition is comparable to the equipment having been determined to be inoperable during operation, with continued operation for a specified time allowed to complete required TS Actions. Since this condition has been previously evaluated in the development of the current TS, the possibility of a new or different kind of accident from any accident previously evaluated is not created.

The proposed changes also involve the addition of a new LCO 3.0.6 to the Applicability Section of the LGS TS that provides appropriate actions to be taken when the inoperability of a support system results in the inoperability of related supported systems. Likewise, the proposed changes involve the addition of new Safety Function Determination Program (SFDP) requirements to the Administrative Section of the LGS TS to ensure that a loss of safety function is detected and appropriate actions are taken when LCO 3.0.6 is entered.

The proposed changes do not alter the plant configuration (no new or different type of equipment is being installed) or require any new or unusual operator actions. The proposed changes do not alter the safety limits or safety analysis assumptions associated with the operation of the plant. The proposed changes do not introduce any new failure modes that could result in a new accident. The proposed changes do not reduce or adversely affect the capabilities of any plant structure, system, or component in the performance of their safety function. Also, the response of the plant and the operators following the design basis accidents is unaffected by the proposed changes.

In addition, the proposed changes conform to NRC regulatory requirements regarding the content of plant TS as identified in 10 CFR 50.36, and also the guidance as approved by the NRC in NUREG-1433, “Standard Technical Specifications-General Electric BWR/4 Plants.”

Therefore, the proposed changes do not create the possibility of a new or different kind of accident from any accident previously evaluated.

3. Do the proposed changes involve a significant reduction in a margin of safety?

Response: No.

The proposed changes involve the addition of a new LCO 3.0.5 to the Applicability Section of the LGS TS which allows restoration of equipment to service under administrative controls when it has been removed from service or declared inoperable to comply with TS Action requirements.

Temporarily returning inoperable equipment to service for the purpose of confirming operability, places the plant in a condition which has been previously evaluated and determined to be acceptable for short periods. Additionally, the equipment has been determined to be in a condition which provides the previously determined margin of safety. The performance of the operability testing simply confirms the expected result and capability of the equipment.

Additionally, the proposed changes involve the addition of a new LCO 3.0.6 to the Applicability Section of the LGS TS that provides appropriate actions to be taken when the inoperability of a support system results in the inoperability of related supported systems. The proposed changes also involve adding new Safety Function Determination Program (SFDP) requirements to the Administrative Section of the LGS TS to ensure that a loss of safety function is detected and appropriate actions are taken when LCO 3.0.6 is entered.

The proposed changes have no adverse effect on plant operation, or the availability or operation of any accident mitigation equipment. The plant response to the design basis accidents does not change. The proposed changes do not adversely affect existing plant safety margins or the reliability of the equipment assumed to operate in the safety analyses. There is no change being made to safety analysis assumptions, safety limits or limiting safety system settings that would adversely affect plant safety as a result of the proposed changes.

In addition, the proposed changes conform to NRC regulatory requirements regarding the content of plant TS as identified in 10 CFR 50.36, and also the guidance as approved by the NRC in NUREG-1433, “Standard Technical Specifications-General Electric BWR/4 Plants.”

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Vice President and Deputy General Counsel, Exelon Generation Company, LLC, 4300 Winfield Road, Warrenville, IL 60555.

NRC Branch Chief: Meena K. Khanna.

Nebraska Public Power District, Docket No. 50-298, Cooper Nuclear Station (CNS), Nemaha County, Nebraska

Date of amendment request: August 26, 2014. A publicly-available version is in ADAMS under Accession No. ML14246A203.

Description of amendment request: The proposed amendment would revise the CNS Technical Specifications (TS) and TS Bases by deleting Option b from TS Surveillance Requirement (SR) 3.5.2.1 and its associated Bases. Option b allows use of Condensate Storage Tank (CST) `A' as an alternative source of makeup water to the Reactor Pressure Vessel during MODE 4 and MODE 5, but CST `A' is not qualified to Seismic Category I.

Basis for proposed no significant hazards consideration determination: As required by 10 CFR 50.91(a), the licensee has provided its analysis of the issue of no significant hazards consideration, which is presented below:

1. Do the proposed changes involve a significant increase in the probability or consequences of an accident previously evaluated?

Response: No.

It does not alter assumptions or results of analyses that verify [Emergency Core Cooling Systems (ECCS)] are capable of performing their design functions during or after a [loss-of-coolant accident (LOCA)]. It does impose a restriction on plant operation, but the restriction does not affect any accident initiator, and it improves accident mitigation capability. The proposed amendment does not change any results of previously evaluated accidents in the Updated Safety Analysis Report (USAR) nor events with which the plant must be able to cope (e.g., earthquake, flooding, turbine missiles, and fire). ECCS operating procedures and administrative controls that are affected do not increase the likelihood of an event, nor do they change mitigating capabilities.

The probability of occurrence remains the same as already presented in the USAR for initiating events. Thus, since the probabilities and consequences continue to meet the licensing basis, they are not significant changes.

Therefore, the proposed changes do not involve a significant increase in the probability or consequences of an accident previously evaluated.

2. Do the proposed changes create the possibility of a new or different kind of accident from any accident previously evaluated?

Response: No.

This proposed TS amendment makes no physical change in the plant. It does not change the design functions of ECCS nor Condensate Storage Systems or components. The restriction on ECCS alignment preserves their availability and does not create the possibility of a new or different accident. It does not introduce a new or different kind of accident due to credible new failure mechanisms, malfunctions, or accident initiators not considered in the design and licensing bases.

Therefore, the proposed change does not create the possibility of a new or different kind of accident from any previously evaluated.

3. Do the proposed changes involve a significant reduction in a margin of safety?

Response: No.

LOCA analysis results are not changed nor affected by the restriction on ECCS alignment to the suppression pool, because it is consistent with conditions assumed in the analysis. Thus, the conservatism in the evaluation and analysis methods are maintained. The safety margin before the TS change is the same as after the change. This change does not exceed or alter a design basis or safety limit and does not significantly reduce the margin of safety. Since, the drain-down events in MODES 4 and 5 are bounded by the LOCA analysis, the change to TS which prohibit their alignment to the CST also do not reduce the margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John C. McClure, Nebraska Public Power District, Post Office Box 499, Columbus, NE 68602-0499.

Acting NRC Branch Chief: Eric R. Oesterle.

Southern California Edison Company (SCE), et al., Docket Nos. 50-206, 50-361, 50-362, and 72-041, San Onofre Nuclear Generating Station (SONGS), Units 1, 2 and 3, and Independent Spent Fuel Storage Installation, San Diego County, California

Date of amendment request: March 31, 2014, as supplemented by letter dated October 21, 2014. Publicly-available versions are in ADAMS under Accession Nos. ML14092A249 and ML14297A016.

Description of amendment request: The proposed amendment would modify the SONGS facility operating license by revising the emergency action level (EAL) scheme consistent with the SONGS permanent shutdown and defueled status. On June 12, 2013, SCE submitted a certification of permanent cessation of power operations pursuant to 10 CFR 50.82(a)(1)(i), stating that SCE had decided to permanently cease power operation of SONGS effective June 7, 2013. With the docketing of subsequent certifications for permanent removal of fuel from the reactor vessels pursuant to 10 CFR 50.82(a)(1)(ii) on June 28, 2013, and July 22, 2013, for Units 3 and 2, respectively, the 10 CFR part 50 license for SONGS Units 2 and 3 no longer authorizes operation of the reactor or emplacement or retention of fuel into the reactor vessel, as specified in 10 CFR 50.82(a)(2). SONGS, Unit 1, was permanently shut down in 1993 and is in the decommissioning phase. The proposed changes to the EAL scheme are being submitted to the NRC for approval prior to implementation, as required under 10 CFR 50.54(q)(4) and 10 CFR part 50, Appendix E, Section IV.B.2.

Basis for proposed no significant hazards consideration determination: As required by 10 CFR 50.91(a), the licensee has provided its analysis of the issue of no significant hazards consideration, which is presented below:

1. Does the proposed amendment involve a significant increase in the probability or consequences of an accident previously evaluated?

[Response: No.]

San Onofre Nuclear Generating Station (SONGS) Units 2 and 3 have permanently ceased operation. The proposed amendment would replace the existing EAL scheme with an EAL scheme that reflects the permanently shut-down status of the plant. The proposed Emergency Action Level Scheme is based on NEI [Nuclear Energy Institute] 99-01, Revision 6, “Development of Emergency Action Levels for Non-Passive Reactors,” Appendix C for permanently defueled stations. The proposed amendment has no effect on structures, systems, and components (SSCs) and no effect on the capability of any plant SSC to perform its design function. The proposed amendment would not increase the likelihood of the malfunction of any plant SSC.

The spent fuel pool and its support systems are used for spent fuel storage. It is expected that SONGS will remain in a wet fuel storage configuration for approximately five years. In this condition, the spectrum of postulated accidents is much smaller than for an operational plant. As a result of the certifications submitted by SCE in accordance with 10 CFR 50.82(a)(1), and the consequent removal of authorization to operate the reactor or to place or retain fuel in the reactor in accordance with 10 CFR 50.82(a)(2), most of the accident scenarios postulated in the SONGS Final Safety Analysis Report are no longer possible, and there is no significant increase in consequences of previously postulated accidents.

The proposed license amendment will not significantly increase the probability of occurrence of previously evaluated accidents, since most previously analyzed accidents can no longer occur and the probability or consequences of the few remaining are unaffected by the proposed amendment.

Therefore, the proposed amendment does not involve a significant increase in the probability or consequences of an accident previously evaluated.

2. Does the proposed amendment create the possibility of a new or different kind of accident from any accident previously evaluated?

[Response: No.]

The proposed amendment does not involve any change in the plant's design, configuration, or operation. The proposed changes have no impact on facility SSCs affecting the safe storage of irradiated fuel, or in the methods of operation of such SSCs, or on the handling and storage of irradiated fuel itself. The proposed EAL scheme is for the plant's defueled condition. There is no impact on the prevention, diagnosis, or mitigation of accidents previously evaluated. Accidents cannot result in different or more adverse failure modes or accidents than those previously evaluated because the reactors are permanently shut down and defueled and SONGS is no longer authorized to operate the reactors.

The proposed EAL scheme does not make changes to the systems credited in the remaining relevant accident analyses. No changes are being made to parameters within which the plant is normally operated or in the setpoints which initiate protective or mitigating actions, and no new failure modes are being introduced or new accident precursors that could initiate a new or different kind of accident. Proper control and monitoring of safety significant parameters and activities such as dose assessments to determine any radiological releases and provisions for communications and coordination with offsite organizations will be maintained.

The proposed amendment does not introduce a new mode of plant operation or new accident precursors, does not involve any physical alterations to plant configuration, or make changes to system setpoints that could initiate a new or different kind of accident.

Therefore, the proposed amendment does not create the possibility of a new or different kind of accident from any accident previously evaluated.

3. Does the proposed amendment involve a significant reduction in a margin of safety?

[Response: No.]

The proposed amendment to the EAL scheme will provide thresholds for initiation of Emergency Planning actions that are commensurate with the permanently defueled condition of the station. The proposed amendment does not involve a change in the plant's design, configuration, or operation. The proposed amendment does not affect either the way in which the plant SSCs perform their safety function or its design and licensing bases.

Because the 10 CFR part 50 licenses for SONGS no longer authorize operation of the reactor or emplacement or retention of fuel into the reactor vessel, as specified in 10 CFR 50.82(a)(2), the occurrence of postulated accidents associated with reactor operation is no longer possible. The proposed amendment does not adversely affect the inputs or assumptions of any of the design basis analyses that impact the applicable postulated accidents.

The proposed changes to the SONGS EAL scheme do not impact the safe storage of irradiated fuel. The revised scheme does not affect any requirements for SSCs credited in the remaining analyses of applicable postulated accidents; and as such, does not significantly reduce the margin of safety associated with these accident analyses. Postulated design basis accidents involving the reactor are no longer possible because the reactor is permanently shut down and defueled and SONGS is no longer authorized to operate the reactors.

Therefore, the proposed amendment does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Walker A. Matthews, Esquire, Southern California Edison Company, 2244 Walnut Grove Avenue, Rosemead, California 91770.

NRC Branch Chief: Douglas A. Broaddus.

Southern California Edison Company (SCE), et al., Docket Nos. 50-206, 50-361, 50-362, and 72-041, San Onofre Nuclear Generating Station (SONGS), Units 1, 2 and 3, and Independent Spent Fuel Storage Installation, San Diego County, California

Date of amendment request: March 31, 2014, as supplemented by letter dated October 21, 2014. Publicly-available versions are in ADAMS under Accession Nos. ML14092A314 and ML14345A338.

Description of amendment request: The proposed amendment would modify the SONGS facility operating license by revising the emergency plan consistent with the SONGS permanent shutdown and defueled status. On June 12, 2013, SCE submitted a certification of permanent cessation of power operations pursuant to the 10 CFR 50.82(a)(1)(i), stating that SCE had decided to permanently cease power operation of SONGS effective June 7, 2013. With the docketing of subsequent certifications for permanent removal of fuel from the reactor vessels pursuant to 10 CFR 50.82(a)(1)(ii) on June 28, 2013, and July 22, 2013, for Units 3 and 2, respectively, the 10 CFR part 50 license for SONGS, Units 2 and 3, no longer authorizes operation of the reactor or emplacement or retention of fuel into the reactor vessel, as specified in 10 CFR 50.82(a)(2). SONGS, Unit 1, was permanently shut down in 1993 and is in the decommissioning phase. The proposed changes to the emergency plan are being submitted to the NRC for approval prior to implementation, as required under 10 CFR 50.54(q)(4) and 10 CFR part 50, Appendix E, Section IV.B.2.

Basis for proposed no significant hazards consideration determination: As required by 10 CFR 50.91(a), the licensee has provided its analysis of the issue of no significant hazards consideration, which is presented below:

1. Does the proposed amendment involve a significant increase in the probability or consequences of an accident previously evaluated?

Response: No.

San Onofre Nuclear Generating Station (SONGS Units 2 and 3 have permanently ceased operation (Reference 6.5.1). The proposed amendment would replace the Radiological Emergency Response Plan (RERP) with the Permanently Defueled Emergency Plan (PDEP) to correspond to the reduced scope of remaining accidents and events. The proposed changes discontinue offsite emergency planning activities and reduce the scope of onsite emergency planning as a result of the substantially lower onsite and offsite radiological consequences of accidents possible at SONGS. The proposed amendment is consistent with the criterion discussed in Interim Staff Guidance [ISG] NSIR/DPR [Office of Nuclear Security and Incident Response/Division of Preparedness & Response]-ISG-02, “Emergency Planning Exemption Requests for Decommissioning Nuclear Power Plants.”

The proposed amendment has no effect on structures, systems, and components (SSCs) and no effect on the capability of any plant SSC to perform its design function. The proposed amendment would not increase the likelihood of the malfunction of any plant SSC.

The spent fuel pool and its support systems are used for spent fuel storage. It is estimated that SONGS will remain in a wet fuel storage configuration for approximately five years. In this condition, the spectrum of postulated accidents is much smaller than for an operational plant. As a result of the certifications submitted by SCE in accordance with 10 CFR 50.82(a)(1), and the consequent removal of authorization to operate the reactor or to place or retain fuel in the reactor in accordance with 10 CFR 50.82(a)(2), most of the accident scenarios postulated in the SONGS Final Safety Analysis Report are no longer possible. The proposed amendment continues to maintain the effectiveness for coping with radiological emergencies that are postulated to occur in the permanently defueled condition. The ability to identify, assess, and mitigate these remaining events will be maintained such that there will be no significant increase in the consequences of any event.

The proposed license amendment will not significantly increase the probability of occurrence of previously evaluated accidents, since most previously analyzed accidents can no longer occur and the probability or consequences of the few remaining are unaffected by the proposed amendment.

Therefore, the proposed amendment does not involve a significant increase in the probability or consequences of an accident previously evaluated.

2. Does the proposed amendment create the possibility of a new or different kind of accident from any accident previously evaluated?

Response: No.

The proposed amendment does not involve any change in the plant's design, configuration, or operation. The proposed changes discontinue offsite emergency planning activities and reduce the scope of onsite emergency planning as a result of the substantially lower onsite and offsite radiological consequences of accidents possible at SONGS. The proposed changes have no impact on facility SSCs affecting the safe storage of irradiated fuel, or on the methods of operation of such SSCs, or on the handling and storage of irradiated fuel itself. The SONGS PDEP is for the plant's defueled condition. There is no impact on the prevention, diagnosis, or mitigation [of] accidents previously evaluated. Accidents cannot result in different or more adverse failure modes or accidents than those previously evaluated because the reactors are permanently shut down and defueled and SONGS is no longer authorized to operate the reactors.

The proposed PDEP does not make changes to the systems credited in the remaining relevant accident analyses. The proposed PDEP continues to require proper control and monitoring of safety significant parameters and activities and continues to require dose assessments to determine any radiological releases and to maintain prompt communications with offsite organizations.

The proposed amendment does not result in any new mechanisms that could initiate damage to the remaining relevant safety barriers for defueled plants (i.e., fuel cladding and spent fuel pool inventory). Since extended operation in a defueled condition is the only operation currently allowed, and therefore bounded by the existing analyses, such a condition does not create the possibility of a new or different kind of accident.

The proposed amendment does not introduce a new mode of plant operation or new accident precursors, does not involve any physical alterations to plant configuration, or make changes to system setpoints that could initiate a new or different kind of accident.

Therefore, the proposed amendment does not create the possibility of a new or different kind of accident from any accident previously evaluated.

3. Does the proposed amendment involve a significant reduction in a margin of safety?

Response: No.

The proposed amendment does not involve a change in the plant's design, configuration, or operation. The proposed amendment does not affect either the way in which the plant SSCs perform their safety function or its design and licensing bases.

Because the 10 CFR part 50 licenses for SONGS no longer authorize operation of the reactor or emplacement or retention of fuel into the reactor vessel, as specified in 10 CFR 50.82(a)(2), the occurrence of postulated accidents associated with reactor operation is no longer possible. The proposed amendment does not adversely affect the inputs or assumptions of any of the remaining design basis analyses.

The proposed changes that are limited to the SONGS PDEP do not impact the safe storage of irradiated fuel. The revised PDEP does not affect any requirements for SSCs credited in the remaining analyses of applicable postulated accidents; and as such, does not significantly reduce the margin of safety associated with these accident analyses. Postulated design basis accidents involving the reactor are no longer possible because the reactor is permanently shut down and defueled and SONGS is no longer authorized to operate the reactors.

Therefore, the proposed amendment does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Walker A. Matthews, Esquire, Southern California Edison Company, 2244 Walnut Grove Avenue, Rosemead, California 91770.

NRC Branch Chief: Douglas A. Broaddus.

South Carolina Electric and Gas Company, South Carolina Public Service Authority, Docket No. 50-395, Virgil C. Summer Nuclear Station, Unit 1, Fairfield County, South Carolina

Date of amendment request: November 12, 2014. A publicly-available version is in ADAMS Accession No. ML14324A217.

Description of amendment request: The proposed amendment includes a revision to the site's Radiation Emergency Plan to relocate the Technical Support Center.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the VCSNS emergency plan does not impact the physical function of plant structures, systems, or components (SSC) or the manner in which SSCs perform their design function. The proposed changes neither adversely affect accident initiators or precursors, nor alter design assumptions. The proposed changes do not alter or prevent the ability of SSCs to perform their intended function to mitigate the consequences of an initiating event within assumed acceptance limits. No operating procedures or administrative controls that function to prevent or mitigate accidents are affected by the proposed changes.

Therefore, the proposed change does not involve a significant increase in the probability or consequences of an accident previously evaluated.

2. Does the proposed amendment create the possibility of a new or different kind of accident from any accident previously evaluated?

Response: No.

The proposed change does not involve a physical alteration of the plant (i.e., no new or different type of equipment will be installed or removed) or a change in the method of plant operation. The proposed change will not introduce failure modes that could result in a new accident, and the change does not alter assumptions made in the safety analysis. The proposed change to the location of the TSC is not an initiator of any accidents.

Therefore, the proposed change does not create the possibility of a new or different kind of accident from any accident previously evaluated.

3. Does the proposed amendment involve a significant reduction in a margin of safety?

Response: No.

Margin of safety is associated with the ability of the fission product barriers (i.e., fuel cladding, reactor coolant system pressure boundary, and containment structure) to limit the level of radiation dose to the public. The proposed change does not impact operation of the plant or its response to transients or accidents. The change does not affect the Technical Specifications or the operating license. The proposed change does not involve a change in the method of plant operation, and no accident analyses will be affected by the proposed changes. Additionally, the proposed change will not relax any criteria used to establish safety limits and will not relax any safety system settings. The safety analysis acceptance criteria are not affected by these changes. The proposed change will not result in plant operation in a configuration outside the design basis. The proposed change does not adversely affect systems that respond to safely shut down the plant and to maintain the plant in a safe shutdown condition. The emergency plan will continue to activate an emergency response commensurate with the extent of degradation of plant safety.

The NRC staff has reviewed the licensee's analysis and, based on this review, it appears that the three standards of 10 CFR 50.92(c) are satisfied. Therefore, the NRC staff proposes to determine that the amendment request involves no significant hazards consideration.

Attorney for licensee: J. Hagood Hamilton, Jr., South Carolina Electric & Gas Company, Post Office Box 764, Columbia, South Carolina 29218.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, Docket No. 50-261, H. B. Robinson Steam Electric Plant, Unit 2, Hartsville, South Carolina

Date of amendment request: September 10, 2013, as supplemented by letter dated April 8, 2014.

Brief description of amendment: The amendment revises Technical Specification 3.4.12, “Low Temperature Overpressure Protection System,” to add a Note that does not require the surveillance be performed until 12 hours after decreasing the reactor coolant system cold temperature to less than or equal to 350 degrees Fahrenheit, which is the temperature when the Low Temperature Overpressure Protection operability controlled by TS 3.4.12 is credited. In addition, the Note and Frequency requirements are being revised to be consistent with NUREG-1431, Revision 3, “Standard Technical Specifications Westinghouse Plants,” dated June 2004.

Date of issuance: October 15, 2014.

Effective date: As of the date of issuance and shall be implemented within 120 days of issuance.

Amendment No.: 238. A publicly-available version is in ADAMS under Accession No. ML14260A380; documents related to this amendment are listed in the Safety Evaluation enclosed with the amendment.

Renewed Facility Operating License No. DPR-23: Amendment revised the Facility Operating License and Technical Specifications.

Date of initial notice in Federal Register: June 24, 2014 (79 FR 35803). The supplemental letter dated April 8, 2014, provided additional information that clarified the application, did not expand the scope of the application as originally noticed, and did not change the staff's original proposed no significant hazards consideration determination as published in the Federal Register.

The Commission's related evaluation of the amendment is contained in a Safety Evaluation dated October 15, 2014.

No significant hazards consideration comments received: No.

Entergy Operations, Inc., Docket No. 50-368, Arkansas Nuclear One, Unit 2, Pope County, Arkansas

Date of application for amendment: January 28, 2013, as supplemented by letters dated September 16, 2013, May 12, 2014, and August 12, 2014.

Brief description of amendment: The amendment revised Technical Specification (TS) requirements related to direct current (DC) electrical systems as specified in TS Limiting Condition for Operation (LCO) 3.8.2.3, “DC Distribution—Operating,” and LCO 3.8.2.4, “DC Distribution—Shutdown.” A new TS LCO 3.8.6, “Battery Parameters,” is created, and a new “Battery Monitoring and Maintenance Program” is now required under TS Section 6.5, “Administrative Controls—Programs and Manuals.” These changes are consistent with the NRC-approved Technical Specifications Task Force (TSTF) Traveler TSTF-500, Revision 2, “DC Electrical Rewrite—Update to TSTF-360.” The availability of this TS improvement was announced in the Federal Register on September 1, 2011 (76 FR 54510).

Date of issuance: December 4, 2014.

Effective date: As of the date of issuance and shall be implemented within 90 days from the date of issuance.

Amendment No.: 297. A publicly-available version is in ADAMS under Accession No. ML14302A015; documents related to this amendment are listed in the Safety Evaluation enclosed with the amendment.

Renewed Facility Operating License No. NPF-6: Amendment revised the Technical Specifications/license.

Date of initial notice in Federal Register: April 30, 2013 (78 FR 25313). The supplemental letters dated September 16, 2013, May 12, 2014, and August 12, 2014, provided additional information that clarified the application, did not expand the scope of the application as originally noticed, and did not change the staff's original proposed no significant hazards consideration determination as published in the Federal Register.

The Commission's related evaluation of the amendment is contained in a Safety Evaluation dated December 4, 2014.

No significant hazards consideration comments received: No.

Entergy Operations, Inc., Docket Nos. 50-313 and 50-368, Arkansas Nuclear One, Units 1 and 2, Pope County, Arkansas

Date of application for amendment: December 17, 2013, as supplemented by letter dated May 13, 2014.

Brief description of amendment: The amendments revised the full implementation date (Milestone 8) of the Arkansas Nuclear One, Units 1 and 2, Cyber Security Plan.

Date of issuance: December 8, 2014.

Effective date: As of the date of issuance and shall be implemented immediately upon issuance.

Amendment Nos.: Unit 1—251; Unit 2—298. A publicly-available version is in ADAMS under Accession No. ML14322A206, documents related to these amendments are listed in the Safety Evaluation enclosed with the amendments.

Renewed Facility Operating License Nos. DPR-51 and NPF-6: The amendments revised the licenses.

Date of initial notice in Federal Register: June 6, 2014 (79 FR 32763). The supplemental letter dated May 13, 2014, provided additional information that clarified the application, did not expand the scope of the application as originally noticed, and did not change the staff's original proposed no significant hazards consideration determination as published in the Federal Register.

The Commission's related evaluation of the amendments is contained in a Safety Evaluation dated December 8, 2014.

No significant hazards consideration comments received: No.

Entergy Nuclear Operations, Inc., Docket No. 50-333, James A. FitzPatrick Nuclear Power Plant, Oswego County, New York

Date of amendment request: January 31, 2014, as supplemented by letter dated July 2, 2014.

Brief description of amendment: The amendment revised the James A. FitzPatrick Nuclear Power Plant Cyber Security Plan (CSP) Implementation Schedule Milestone 8 full implementation date and revised the associated Physical Protection license condition. The CSP Milestone 8 full implementation date was changed from December 15, 2014, to June 30, 2016.

Date of issuance: December 1, 2014.

Effective date: As of the date of issuance, and shall be implemented within 30 days.

Amendment No.: 308. A publicly-available version is in ADAMS under Accession No. ML14202A372; documents related to this amendment are listed in the Safety Evaluation enclosed with the amendment.

Renewed Facility Operating License No. DPR-59: The amendment revised the Operating License.

Date of initial notice in Federal Register: May 6, 2014 (79 FR 25901). The supplemental letter dated July 2, 2014, provided additional information that clarified the application, did not expand the scope of the application as originally noticed, and did not change the NRC staff's original proposed no significant hazards consideration determination as published in the Federal Register.

The Commission's related evaluation of the amendment is contained in a Safety Evaluation dated December 1, 2014.

No significant hazards consideration comments received: No.

Entergy Nuclear Operations, Inc., Docket No. 50-255, Palisades Nuclear Plant, Van Buren County, Michigan

Date of application for amendment: December 30, 2013, as supplemented by letter dated May 22, 2014.

Brief description of amendment: The amendment revises the date of the Cyber Security Plan (CSP) Implementation Milestone 8 and the associated existing facility operating license condition regarding full implementation of the Cyber Security Plan. The CSP and associated implementation schedule was previously approved by the NRC staff by letter dated July 28, 2011 (ADAMS Accession No. ML111801243).

Date of issuance: December 8, 2014.

Effective date: As of the date of issuance and shall be implemented within 30 days.

Amendment No.: 253. A publicly-available version is in ADAMS under Accession No. ML14237A144; documents related to this amendment are listed in the Safety Evaluation enclosed with the amendment.

Renewed Facility Operating License No. DPR-20: Amendment revised the Renewed Facility Operating License.

Date of initial notice in Federal Register: April 15, 2014 (79 FR 21297). The supplement letter dated May 22, 2014, provided additional information that clarified the application, did not expand the scope of the application as originally noticed, and did not change the staff's original proposed no significant hazards consideration determination as published in the Federal Register.

The Commission's related evaluation of the amendment is contained in a Safety Evaluation dated December 8, 2014.

No significant hazards consideration comments received: No.

Exelon Generation Company, LLC, Docket Nos. STN 50-456 and STN 50-457, Braidwood Station, Units 1 and 2, Will County, Illinois

Docket Nos. STN 50-454 and STN 50-455, Byron Station, Units 1 and 2, Ogle County, Illinois

Date of application for amendment: April 17, 2014 (ADAMS Accession No. ML14111A257).

Brief description of amendment: The amendment revised specific Required Action Notes in the Braidwood and Byron Technical Specification (TS) Sections 3.3.1 and 3.3.2 that are no longer applicable following installation and implementation of the bypass test instrumentation modifications at the four Braidwood and Byron units. The change reflects the specific Functions that have bypass test capability installed and the specific Functions that do not have bypass test capability installed.

Date of issuance: December 7, 2014.

Effective date: As of the date of issuance and shall be implemented within 60 days from the date of issuance.

Amendment Nos.: 180/186. A publicly-available version is in ADAMS under Accession No. ML14239A427; documents related to these amendments are listed in the Safety Evaluation (SE) enclosed with the amendments.

Facility Operating License Nos. NPF-72, NPF-77, NPF-37, and NPF-66: The amendments revised the TSs and License.

Date of initial notice in Federal Register: July 22, 2014 (79 FR 42546).

The Commission's related evaluation of the amendments is contained in a SE dated December 7, 2014.

Northern States Power Company—Minnesota, Docket No. 50-263, Monticello Nuclear Generating Plant (MNGP), Wright County, Minnesota; and Northern States Power Company (NSPC)—Minnesota, Docket Nos. 50-282 and 50-306, Prairie Island Nuclear Generating Plant (PINGP), Units 1 and 2, Goodhue County, Minnesota

Date of amendment request: November 27, 2013, as supplemented by letter dated May 5, 2014.

Brief description of amendment: The amendments revised the date of the Cyber Security Plan (CSP) Implementation Milestone 8 and the existing operating license Physical Protection license condition regarding full implementation of the CSP. The CSP and associated implementation schedule were previously approved by the NRC staff in letters dated July 29, 2011 (ADAMS Accession Nos. ML11186A992 and ML11187A231).

Date of issuance: November 28, 2014.

Effective date: As of the date of issuance and shall be implemented within 90 days of issuance.

Amendment Nos.: MNGP—186; PINGP, Unit 1—212; Unit 2—200. A publicly-available version is in ADAMS under Accession No. ML14239A257; documents related to these amendments are listed in the Safety Evaluation enclosed with the amendments.

Facility Operating License Nos. DPR-22, DPR-42, and DPR-60: These amendments revised the Renewed Facility Operating License and the Technical Specifications.

Date of initial notice in Federal Register: August 5, 2014 (79 FR 45493).

The Commission's related evaluation of the amendments is contained in a Safety Evaluation dated November 28, 2014.

No significant hazards consideration comments received: No.

PPL Susquehanna, LLC, Docket Nos. 50-387 and 50-388, Susquehanna Steam Electric Station (SSES), Units 1 and 2, Luzerne County, Pennsylvania

Date of amendment request: December 19, 2012, as supplemented by letter dated September 25, 2014.

Brief description of amendments: The amendments reduce the reactor steam dome pressure specified within TS 2.1.1, “Reactor Core SLs [Safety Limits].” This change resolves a condition reported by General Electric (GE) in accordance with 10 CFR part 21, “Reporting of Defects and Noncompliance,” concerning a potential for SSES to momentarily violate TS 2.1.1.1 and 2.1.1.2 during a Pressure Regulator Failure Maximum Demand (Open) Pressure Regulator Failure Open transient.

Date of issuance: December 8, 2014.

Effective date: As of the date of issuance and shall be implemented within 60 days.

Amendment Nos.: 261 for Unit 1 and 242 for Unit 2. A publicly-available version is in ADAMS under Accession No. ML14321A008; documents related to these amendments are listed in the Safety Evaluation enclosed with the amendments.

Facility Operating License Nos. NPF-14 and NPF-22: The amendments revised the Renewed Facility Operating License and Technical Specifications.

Date of initial notice in Federal Register: April 2, 2013, (78 FR 19754). The supplemental letter dated September 25, 2014, provided additional information that clarified the application, did not expand the scope of the application as originally noticed, and did not change the staff's original proposed no significant hazards consideration determination as published in the Federal Register.

The Commission's related evaluation of the amendments is contained in a Safety Evaluation dated December 8, 2014.

No significant hazards consideration comments received: No.

Dated at Rockville, Maryland, this 15th day of December 2014.
For the Nuclear Regulatory Commission.
Michele G. Evans,
Director, Division of Operating Reactor Licensing, Office of Nuclear Reactor Regulation.

[FR Doc. 2014-29906 Filed 12-22-14; 8:45 am]

BILLING CODE 7590-01-P